DEPARTMENT OF LABOR

Employment and Training Administration

[TA-W-54,317]

Anacom Medtek, Anaheim, California; Notice of Termination of Investigation

Pursuant to section 221 of the Trade Act of 1974, as amended, an investigation was initiated on February 20, 2004 in response to a petition filed on behalf of workers at Anacom Medtek, Anaheim, California.

The petition regarding the investigation has been deemed invalid. Consequently, the investigation has been terminated.

Signed at Washington, DC this 24th day of February 2004.
Elliott S. Kushner,
Certifying Officer, Division of Trade Adjustment Assistance.

[FR Doc. 04-6024 Filed 3-16-04; 8:45 am]

BILLING CODE 4510-30-M